ENVIRONMENTAL PROTECTION AGENCY

[FRL-7921-2]

Forty-Third Street Bay Drum Superfund Site; Notice of Settlement

AGENCY: Environmental Protection Agency.

ACTION: Notice of settlement.

SUMMARY: Under section 122(h)(1) of the Comprehensive Environmental Response, Compensation and Liability Act (CERCLA), the Environmental Protection Agency (EPA) has entered into an Agreement for Recovery of Past Cost (Agreement) at the Forty-Third Street Bay Drum Superfund Site (Site) located in Tampa, Hillsborough County, Florida, with Specialty Chemical, Florida Department of Transportation, and Cicconne-D-Amico, Inc. EPA will consider public comments on the Agreement until July 6, 2005. EPA may withdraw from or modify the Agreement should such comments disclose facts or considerations which indicate the Agreement is inappropriate, improper, or inadequate. Copies of the Agreement are available from: Ms. Paula V. Batchelor, U.S. Environmental Protection Agency, Region 4, Superfund Enforcement & Information Management Branch, Waste Management Division, 61 Forsyth Street, SW., Atlanta, Georgia 30303, (404) 562-8887, Batchelor.Paula@epa.gov.

Written comments may be submitted to Ms. Batchelor at the above address within 30 days of the date of publication.

Dated: April 18, 2005.
Rosalind H. Brown,
Chief, Superfund Enforcement & Information Management Branch, Waste Management Division.

[FR Doc. 05-11161 Filed 6-3-05; 8:45 am]

BILLING CODE 6560-50-P